DEPARTMENT OF TRANSPORTATION

Federal Aviation Administration

14 CFR Part 39

[Docket No. FAA-2005-20222; Directorate Identifier 2004-NM-230-AD]

RIN 2120-AA64

Airworthiness Directives; Bombardier Model DHC-8-102, -103, -106, -201, -202, -301, -311, and -315 Airplanes

AGENCY: Federal Aviation Administration (FAA), Department of Transportation (DOT).

ACTION: Notice of proposed rulemaking (NPRM).

SUMMARY: The FAA proposes to adopt a new airworthiness directive (AD) for certain Bombardier Model DHC-8-102, -103, -106, -201, -202, -301, -311, and -315 airplanes. The subject of this proposed AD is the pilot's static system. This proposed AD would require revising the airplane flight manual to include applicable procedures to follow when the flightcrew receives abnormal indications of airspeed, altitude, or vertical airspeed. This proposed AD would also require modifying the static system. This proposed AD is prompted by a report of a leak in the static pressure system, which could result in loss of the static systems and consequent erroneous data displayed on the pilot's flight instruments. We are proposing this AD to advise the flightcrew of applicable procedures in the event of abnormal indications of airspeed, altitude, or vertical airspeed; and to prevent leaks in the static system, which could result in the loss of critical flight information that could result in reduced controllability of the airplane or controlled flight into terrain.

DATES: We must receive comments on this proposed AD by March 3, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street, SW., Nassif Building, room PL-401, Washington, DC 20590.

• By fax: (202) 493-2251.

• Hand Delivery: Room PL-401 on the plaza level of the Nassif Building, 400 Seventh Street, SW., Washington, DC, between 9 a.m. and 5 p.m., Monday through Friday, except Federal holidays.

For service information identified in this proposed AD, contact Bombardier, Inc., Bombardier Regional Aircraft Division, 123 Garratt Boulevard, Downsview, Ontario M3K 1Y5, Canada.

You can examine the contents of this AD docket on the Internet at http://dms.dot.gov, or in person at the Docket Management Facility, U.S. Department of Transportation, 400 Seventh Street, SW., room PL-401, on the plaza level of the Nassif Building, Washington, DC. This docket number is FAA-2005-20222; the directorate identifier for this docket is 2004-NM-230-AD.

FOR FURTHER INFORMATION CONTACT: Ezra Sasson, Aerospace Engineer, Systems and Flight Test Branch, ANE-172, FAA, New York Aircraft Certification Office, 1600 Stewart Avenue, suite 410, Westbury, New York 11590; telephone (516) 228-7320; fax (516) 794-5531.

SUPPLEMENTARY INFORMATION:

Comments Invited

We invite you to submit any relevant written data, views, or arguments regarding this proposed AD. Send your comments to an address listed under ADDRESSES. Include “Docket No. FAA-2005-20222; Directorate Identifier 2004-NM-230-AD” at the beginning of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of our docket Web site, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

Transport Canada Civil Aviation (TCCA), which is the airworthiness authority for Canada, notified the FAA that an unsafe condition may exist on certain Bombardier Model DHC-8-102, -103, -106, -201, -202, -301, -311, and -315 airplanes. TCCA advises that an investigation of an incident involving erroneous data displayed on the pilot's flight instruments has revealed that a leak in the pilot's side static pressure system, downstream of the alternate selector valve, could result in the loss of both the pilot's normal and alternate static systems. This condition, if not corrected, could result in the display of abnormal indications of airspeed, altitude, or vertical airspeed due to leaks in the static system and prolonged loss of critical flight information that could result in reduced controllability of the airplane or controlled flight into terrain.

Relevant Service Information

Bombardier has issued Service Bulletin 8-34-221, Revision ‘A,’ dated September 15, 2003. The service bulletin describes procedures to modify the pilot's side static system to prevent leaks in the system. For certain airplanes the modification provides increased independence of the static pressure source for the pilot's primary and standby flight instruments, and for certain other airplanes the modification corrects the length of the static system hose.

TCCA mandated the service bulletin and issued Canadian airworthiness directive CF-2003-25, dated October 10, 2003, to ensure the continued airworthiness of these airplanes in Canada.

FAA's Determination and Requirements of the Proposed AD

These airplane models are manufactured in Canada and are type certificated for operation in the United States under the provisions of section 21.29 of the Federal Aviation Regulations (14 CFR 21.29) and the applicable bilateral airworthiness agreement. Pursuant to this bilateral airworthiness agreement, TCCA has kept the FAA informed of the situation described above. We have examined TCCA's findings, evaluated all pertinent information, and determined that we need to issue an AD for products of this type design that are certificated for operation in the United States.

Therefore, we are issuing this AD to provide procedures to the flightcrew in the event of abnormal indications of airspeed, altitude, or vertical airspeed; and to prevent leaks in the static system, which could result in the loss of critical flight information that could result in reduced controllability of the airplane or controlled flight into terrain. This AD requires accomplishing the actions specified in the service information described previously, except as discussed under “Differences Between the Proposed AD and Canadian Airworthiness Directive.”

Differences Between the Proposed AD and Canadian Airworthiness Directive

This proposed AD advises revising the applicable de Havilland Dash 8 airplane flight manual to incorporate the text specified in paragraph (f) of this proposed AD. The Canadian AD does not include such a requirement. In Canada, operators are mandated to use the latest flight manual and therefore, TCCA is not required to issue an AD to require flight manual revisions.

Costs of Compliance

The following table provides the estimated costs for U.S. operators to comply with this proposed AD.

Estimated Costs
Action | Work hours | Average labor rate per hour | Parts | Cost per airplane | Number of U.S.-registered airplanes | Fleet cost
Revise AFM | 1 | $65 | None | $65 | 181 | $11,765
Modify static system | 2 | 65 | 100-200 | 230-330 | 181 | 41,630-59,730

Authority for This Rulemaking

The FAA's authority to issue rules regarding aviation safety is found in Title 49 of the United States Code. Subtitle I, Section 106, describes the authority of the FAA Administrator. Subtitle VII, Aviation Programs, describes in more detail the scope of the agency's authority.

This rulemaking is promulgated under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this proposed AD.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Bombardier, Inc. (Formerly de Havilland, Inc.): Docket No. FAA-2005-20222; Directorate Identifier 2004-NM-230-AD.

Comments Due Date

(a) The Federal Aviation Administration must receive comments on this AD action by March 3, 2005.

Affected ADs

(b) None.

Applicability

(c) This AD applies to Bombardier Model DHC-8-102, -103, -106, -201, -202, -301, -311, and -315 airplanes, certificated in any category; serial numbers 003 through 598 inclusive.

Unsafe Condition

(d) This AD was prompted by a report of a leak in the static pressure system, which could result in loss of the static systems and consequent erroneous data displayed on the pilot's flight instruments. The subject of this AD is the pilot's static system. We are issuing this AD to advise the flightcrew of applicable procedures in the event of abnormal indications of airspeed, altitude, or vertical airspeed; and to prevent leaks in the static system, which could result in the loss of critical flight information that could result in reduced controllability of the airplane or controlled flight into terrain.

Compliance

(e) You are responsible for having the actions required by this AD performed within the compliance times specified, unless the actions have already been done.

Revision to Airplane Flight Manual

(f) Within 10 days after the effective date of this AD, revise the Normal and Abnormal Procedures sections of the applicable de Havilland Dash 8 flight manual to include the following statement in paragraph 4.11.1 of 4.11 Pitot—Static and Stall Warning System Failures. This may be done by inserting a copy of this AD in the applicable flight manual.

“4.11.1 ABNORMAL INDICATIONS OF AIRSPEED, ALTITUDE AND VERTICAL AIRSPEED.

“1. Appropriate STATIC SOURCE selector—ALTERNATE. If switching the STATIC SOURCE selector to ALTERNATE does not correct the abnormal indications:

“2. Rely on the flight instruments on the opposite side and land as soon as practicable.”

Note 1: When a statement identical to that in paragraph (f) of this AD has been included in the general revisions of the applicable flight manual, the general revisions may be inserted into the flight manual, and the copy of this AD may be removed from the flight manual.

Modification of the Static System

(g) For airplanes having serial numbers 003 through 590 inclusive: Within 24 months after the effective date of this AD, modify the static system in accordance with Part A and Part C of the Accomplishment Instructions of Bombardier Service Bulletin 8-34-221, Revision ‘A,’ dated September 15, 2003.

(h) For airplanes having serial numbers 591 through 598 inclusive: Within 24 months after the effective date of this AD, modify the static system in accordance with Part B and Part C of the Accomplishment Instructions of Bombardier Service Bulletin 8-34-221, Revision ‘A,’ dated September 15, 2003.

Modifications Done According to Previous Issue of Service Bulletin

(i) Modifications done before the effective date of this AD in accordance with Bombardier Service Bulletin 8-34-221, dated May 27, 2003, are acceptable for compliance with the applicable modifications specified in paragraphs (g) and (h) of this AD.

Alternative Methods of Compliance (AMOCs)

(j) The Manager, New York Aircraft Certification Office, Transport Airplane Directorate, FAA, has the authority to approve AMOCs for this AD, if requested in accordance with the procedures found in 14 CFR 39.19.

Related Information

(k) Canadian airworthiness directive CF-2003-25, dated October 10, 2003, also addresses the subject of this AD.

Issued in Renton, Washington, on January 21, 2005.
Ali Bahrami,
Manager, Transport Airplane Directorate, Aircraft Certification Service.

[FR Doc. 05-1808 Filed 1-31-05; 8:45 am]

BILLING CODE 4910-13-P